DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 21, 2002.

Interested persons are invited to submit written comments regarding the subject matter of the investigations to the Director, Division of Trade Adjustment Assistance, at the address shown below, not later than June 21, 2002.

The petitions filed in this case are available for inspection at the Office of the Director, Division of Trade Adjustment Assistance, Employment and Training Administration, U.S. Department of Labor, Room C-5311, 200 Constitution Avenue, NW., Washington, DC 20210.

Signed at Washington, DC, this 8th day of April, 2002.
Edward A. Tomchick,
Director, Division of Trade Adjustment Assistance.

Appendix
[Petitions instituted on 04/08/2002]
TA-W | Subject firm (petitioners) | Location | Date of petition | Product(s)
41,230 | Eagle Picher Industries (Wkrs) | Seneca, MO | 03/07/2002 | Lead Acid Batteries.
41,231 | Corning, Inc. (AFGWU) | Wilmington, NC | 02/08/2002 | Fiber Optics.
41,232 | Presto Lifts (IBT) | Pawtucket, RI | 03/25/2002 | Equipment used to move Boxes.
41,233 | Associated Garments (Wkrs) | Miami, FL | 2/19/2002 | Garments.
41,234 | Spring Ford Industries (Wkrs) | Springdale, NC | 03/15/2002 | Men & Women Apparel.
41,235 | Charmilles Technologies (Wkrs) | Owosso, MI | 01/19/2002 | Electrical Discharge Machinery.
41,236 | Kayby Mills of NC (Wkrs) | Thomasville, GA | 10/30/2001 | Hosiery products—Socks, Tights.
41,237 | Garan Manufacturing (Wkrs) | Philadelphia, MS | 11/06/2001 | Children's Pants.
41,238 | Keystone Thermistor (Co.) | Mt. Jewett, PA | 02/26/2002 | Temperature Devices for Automotive.
41,239 | Enerflex, Inc. | Cedar Mountain, NC | 03/29/2002 | Provide Steam Power Supply Service.
41,240 | Nortel Networks (Wkrs) | Raleigh, NC | 02/28/2002 | GSM Base Stations.
41,241 | Alliant Techsystems (Wkrs) | Radford, VA | 02/14/2002 | M14 Propellants.
41,242 | Chevron U.S.A. Production (Co.) | Houston, TX | 03/07/2002 | Crude Oil and Natural Gas.
41,243 | Texaco Exploration (Co.) | Houston, TX | 03/07/2002 | Crude Oil and Natural Gas.
41,244 | Jetfill Division—Turdon (Co.) | Houston, TX | 06/01/2002 | InkJet Cartridges.
41,245 | International Paper (IAM) | Oswego, NY | 03/07/2002 | Lingerboard and Medium.
41,246 | Avanti (Wkrs) | Chili, NY | 02/24/2002 | Advertising Catalog.
41,247 | Wellington Leisure Prod. (Wkrs) | Parsons, TN | 03/06/2002 | Replacement Cushions & Patio Umbrellas.
41,248 | NAS Interplex (Wkrs) | Flushing, NY | 02/10/2002 | Electronic Connectors.
41,249 | Getinge Castle, Inc. (Co.) | Rochester, NY | 02/15/2002 | Sterilizers for Hospitals.
41,250 | Tuthill Vacuum System (Wkrs) | Canton, MA | 02/17/2002 | Vacuum Pumps.
41,251 | American Components (Wkrs) | Dandridge, TN | 02/22/2002 | Car Seats Supports.
41,252 | Rosebar Textile Co. (Co.) | New York, NY | 08/21/2001 | Textiles.
41,253 | Metso Minerals Industries (GMP) | Birmingham, AL | 04/01/2002 | Pump Parts.
41,254 | Cooper Lighting (IBEW) | Elk Grove Villa, IL | 02/26/2002 | Light Fixtures.
41,255 | American Greetings (Wkrs) | Corbin, KY | 03/26/2002 | Printed Greeting Card Sheets.
41,256 | Isfel Co., Inc. (The) (Wkrs) | New York, NY | 03/11/2002 | Girl's Sportswear—Admin. Services.
41,257 | J. Miller Industries (Co.) | Corona, CA | 03/09/2002 | Fiberglass Tent Poles.
41,258A | Weyerhaeuser Co (WCIW) | Enumclaw, WA | 03/01/2001 | Logs.
41,258B | Weyerhaeuser Co (WCIW) | Rainier, WA | 03/01/2001 | Logs.
41,258 | Weyerhaeuser Co. (IAM) | Snoqualmie, WA | 03/01/2002 | Logs.
41,259 | Fibermark (PACE) | Rochester, MI | 03/14/2002 | Filteration Paper.
41,260 | Laird Technologies (Co.) | Asheboro, NC | 03/14/2002 | Tele-Communication Products.
41,261 | Dayton Pattern (IAMAW) | Dayton, OH | 03/15/2002 | Patterns and Related.
41,262 | Alexander Garments (Wkrs) | Hialeah, FL | 02/15/2002 | Boys Pants and Belts.
41,263 | CII/Tyco Electronics (Wkrs) | Sabula, IA | 03/07/2002 | Contact Relays.
41,264 | Ilissa Bridals Ltd. (Wkrs) | New York, NY | 03/07/2002 | Bridal Dresses.
41,265 | A.P. Green Industries (Comp) | Middletown, PA | 03/07/2002 | Precast Refractories.
41,266 | Beacon Blankets (Wkrs) | Swannanoa, NC | 03/01/2002 | Cotton Woven Blankets.
41,267 | Limited Edition Shirt (Co.) | Ranshaw, PA | 03/05/2002 | Police and Security Uniforms.
41,268 | Truman Logging (Co.) | Rexford, MT | 03/04/2002 | Manufacturing Trees into Logs.
41,269 | Victoria Vogue (Co.) | Bethlehem, PA | 01/10/2002 | Cosmetic Applicators.
41,270 | Devil Dog Mfg. (Co.) | Zebulon, NC | 03/05/2002 | Women and Children Apparel.
41,271A | Koppel Steel Corp (USWA) | Ambridge, PA | 03/04/2002 | Seamless Oil Country Tubular Goods.
41,271 | Koppel Steel Corp. (USWA) | Beaver Falls, PA | 03/04/2002 | Seamles Oil Country Tubular Goods.
41,272 | Amdocs, Inc. (Wkrs) | Hillsboro, OR | 03/08/2002 | Telecommunications Fraud Detection Sftwr.
41,273 | Regal Garment (Wkrs) | New York, NY | 03/07/2002 | Women's Apparel.
41,274 | Azon Corporation (Wkrs) | Johnson City, NY | 03/07/2002 | Film and Paper.
41,275 | Stoltze Aspen Mills (Wkrs) | Sigurd, UT | 03/04/2002 | Pallet Stock.
41,276 | GBC (Wkrs) | Ashland, MS | 03/06/2002 | Office and School Supplies.
41,277 | Cooper Crouse Hinds (Wkrs) | Syracuse, NY | 03/01/2002 | Tool and Die Makers.
41,278 | Siegwerk, Inc. (Wkrs) | Lynchburg, VA | 03/05/2002 | Gravure Printing Ink.
41,279 | Levolor Kirsh Window (Co.) | Shamokin, PA | 03/12/2002 | Roller-Shades & Mini-Blinds.
41,280 | Pat and Rose Dress (Wkrs) | New York, NY | 03/06/2002 | Womens Sportswear and Dresses.
41,281 | Kimberly Clark Technical (PACE) | E. Rygate, VT | 03/24/2002 | Technical Papers.
41,282 | Precision Technologies (Wkrs) | Franklin, PA | 03/01/2002 | Prototypes, Injection Mold Tooling.
41,283 | SEH-America, Inc. (Comp) | Vancouver, WA | 04/04/2002 | Polished Silicon Wafers.
41,284 | Corning Cable Systems (Wkrs) | Hickory, NC | 04/04/2002 | Fiber Optic Cable.

[FR Doc. 02-14552 Filed 6-10-02; 8:45 am]

BILLING CODE 4510-30-M